DEPARTMENT OF LABOR

Office of the Secretary

Submission for OMB Review: Comment Request

April 12, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or email: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Application to Employ Homeworkers Piece Rate Measurements, Homeworker Handbooks.

OMB Number: 1215-0013.

Form Numbers: WH-46 and WH-75.

Frequency: On occasion.

Type of Response: Recordkeeping and Reporting.

Affected Public: Business or other for-profit; Individuals or households; and Not-for-profit institutions.

Number of Respondents: 377,531.

Collection of information | Annual responses | Average response time (hours) | Annual burden hours
Form WH-46 | 25 | 0.50 | 13
Form WH-75 | 1,208,020 | 0.50 | 604,010
Recordkeeping
Piece-rate measurements | 150 | 1.01 | 152
Homeworker Handbooks* | 1,208,020 | 0.01 | 10,067
Total | 1,208,195 |  | 614,241
* Not counted in total as separate responses.

Total Annualized capital/startup costs: $0.

Total Annual Costs (operating/maintaining systems or purchasing services): $10.50.

Description: Fair Labor Standards Act (FLSA) section 11(d), 29 U.S.C. 211(d), authorizes the Secretary of Labor to regulate, restrict, or prohibit industrial homework as necessary to prevent evasion of the minimum wage requirements of the Act. The reporting and recordkeeping requirements for employers and employees in industries employing homeworkers are necessary to insure employees are paid in compliance with FLSA.

Darrin A. King,
Acting Departmental Clearance Officer.

[FR Doc. E6-5771 Filed 4-17-06; 8:45 am]

BILLING CODE 4510-27-P